Title 3—

The President

Proclamation 7417 of March 22, 2001

Education and Sharing Day, U.S.A., 2001

By the President of the United States of America

A Proclamation

With the dawn of a new century, America's youth face a world of nearly unlimited possibilities. New advances in technology, medicine, and science offer the potential for great progress. We must ensure that every child has the technical skills needed to pursue success in their respective fields. However, they also require the wisdom and understanding to make sense of an ever-changing world.

As teachers, parents, and citizens, we have a responsibility to pass on more than just academic knowledge to our children. We also need to provide them with the moral strength to see them through turbulent and challenging times. An education that nurtures goodness and kindness gives direction and dignity to the lives of our young people and strengthens our communities. Humanity has long recognized such core and never-changing ethical values as vital to the well-being of a society and its citizenry.

Rabbi Menachem Mendel Schneerson, the Lubavitcher Rebbe, clearly understood the importance of fostering character. His establishment of educational, social, and rehabilitative institutions bettered the lives of people both in this country and abroad. As he once said, “All educational efforts are basically meaningless unless built on the solid foundation of good character.” Next year marks the 100th anniversary of the Rebbe's birth, but his legacy of teaching that a nation's true greatness is measured by whether it produces citizens of compassion and character remains timeless.

NOW, THEREFORE, I, GEORGE W. BUSH, President of the United States of America, by virtue of the authority vested in me by the Constitution and laws of the United States, do hereby proclaim April 4, 2001, as Education and Sharing Day, U.S.A., 2001. By teaching children the highest standards of ethical behavior, Americans prepare our next generation of leaders to pursue meaningful lives as members of a decent and caring society.

IN WITNESS WHEREOF, I have hereunto set my hand this twenty-second day of March, in the year of our Lord two thousand one, and of the Independence of the United States of America the two hundred and twenty-fifth.

B

[FR Doc. 01-7616

Filed 3-23-01; 10:47 am]

Billing code 3195-01-P